DEPARTMENT OF HOUSING AND URBAN DEVELOPMENT

[Docket No. FR-5280-N-49]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Air Force Real Property Agency, 143 Billy Mitchell Blvd., San Antonio, TX 78226, (210) 925-3047; Coast Guard: Commandant, United States Coast Guard, Attn: Jennifer Stomber, 2100 Second St., SW., Stop 7901, Washington, DC 20593-0001; (202) 475-5609; Energy: Mr. Mark Price, Department of Energy, Office of Engineering & Construction Management, MA-50, 1000 Independence Ave, SW., Washington, DC 20585: (202) 586-5422; GSA: Mr. Gordon Creed, Acting Deputy Assistant Commissioner, General Services Administration, Office of Property Disposal, 18th & F Streets, NW., Washington, DC 20405; (202) 501-0084; Navy: Mrs. Mary Arndt, Acting Director, Department of the Navy, Real Estate Services, Naval Facilities Engineering Command, Washington Navy Yard, 1322 Patterson Ave., SE., Suite 1000, Washington, DC 20374-5065; (202) 685-9305; (These are not toll-free numbers).

Dated: December 10, 2009.
Mark R. Johnston,
Deputy Assistant Secretary for Special Needs.

Title V, Federal Surplus Property Program Federal Register Report for 12/18/2009

Suitable/Available Properties

Building

Massachusetts

Navy Oper. Support Center

640 Plantation St.

Worcester MA 01605

Landholding Agency: GSA

Property Number: 54200940007

Status: Excess

GSA Number: 1-N-MA-0918

Comments: 36,580 sq. ft. w/6 acres, presence of asbestos/lead paint, most recent use—training facility

Land

Missouri

Outer Marker Annex

Whiteman AFB

Knob Noster MO 65336

Landholding Agency: Air Force

Property Number: 18200940001

Status: Unutilized

Comments: 0.75 acres, most recent use—communication

Unsuitable Properties

Building

California

5 Bldgs.

Edwards AFB

Los Angeles CA 93524

Landholding Agency: Air Force

Property Number: 18200940002

Status: Unutilized

Directions: 50, 5510, 7161, 7163, 7184

Reasons: Secured Area

8 Bldgs.

Vandenberg AFB

Santa Barbara CA 93437

Landholding Agency: Air Force

Property Number: 18200940003

Status: Unutilized

Directions: 182, 575, 578, 580, 582, 583, 584, 589

Reasons: Extensive deterioration Secured Area

4 Bldgs.

Vandenberg AFB

Santa Barbara CA 93437

Landholding Agency: Air Force

Property Number: 18200940004

Status: Unutilized

Directions: 590, 596, 598, 599

Reasons: Extensive deterioration, Secured Area

5 Bldgs.

Vandenberg AFB

Santa Barbara CA 93437

Landholding Agency: Air Force

Property Number: 18200940005

Status: Unutilized

Directions: 708, 742, 955, 1836, 13403

Reasons: Secured Area, Extensive deterioration

14 Bldgs.

Beale AFB

Beale AFB CA 95903

Landholding Agency: Air Force

Property Number: 18200940006

Status: Unutilized

Directions: 4158, 3936, 3942, 3947, 4314, 4318, 4256, 4120, 4103, 3871, 3873, 3887, 3919, 4133

Reasons: Extensive deterioration

Bldgs. 4320, 800

Beale AFB

Beale AFB CA 95903

Landholding Agency: Air Force

Property Number: 18200940007

Status: Unutilized

Reasons: Extensive deterioration

4 Bldgs.

Beale AFB

Beale AFB CA 95903

Landholding Agency: Air Force

Property Number: 18200940008

Status: Unutilized

Directions: 4136, 5223, 5228, 5278

Reasons: Extensive deterioration

7 Bldgs.

Marine Corps Air Station

Miramar CA

Landholding Agency: Navy

Property Number: 77200940012

Status: Excess

Directions: 9022, 9272, 9539, 9540, 9604, 9623, 9624

Reasons: Secured Area, Extensive deterioration

Colorado

Bldg. 6980

U.S. Air Force Academy

El Paso CO 80840

Landholding Agency: Air Force

Property Number: 18200940009

Status: Unutilized

Reasons: Secured Area

Unsuitable Properties

Building

Florida

Facility 47120

Cape Canaveral AFB

Brevard FL 32925

Landholding Agency: Air Force

Property Number: 18200940010

Status: Unutilized

Reasons: Secured Area

Illinois

Bldgs. OB1, OB2, OM2

U.S. Coast Guard Station

Calumet Harbor

Chicago IL 60617

Landholding Agency: Coast Guard

Property Number: 88200940005

Status: Excess

Reasons: Secured Area, Extensive deterioration

Indiana

Bldg. 103

Grissom AFB

Peru IN 46970

Landholding Agency: Air Force

Property Number: 18200940011

Status: Excess

Reasons: Within 2000 ft. of flammable or explosive material

New Jersey

Bldg. RPFN OM1

U.S. Coast Guard Station

Fortescue NJ 08321

Landholding Agency: Coast Guard

Property Number: 88200940004

Status: Unutilized

Reasons: Extensive deterioration

New Mexico

Bldg. 1267, 1620 Holloman AFB

Otero NM 88330

Landholding Agency: Air Force

Property Number: 18200940013

Status: Unutilized

Reasons: Secured Area

South Carolina

10 Bldgs.

Shaw AFB

Sumter SC 29152

Landholding Agency: Air Force

Property Number: 18200940014

Status: Unutilized

Directions: B16, B34, B122, B219, B220, B221, B403, B418, B428, B430

Reasons: Secured Area

South Carolina

5 Bldgs.

Shaw AFB

Sumter SC 29152

Landholding Agency: Air Force

Property Number: 18200940015

Status: Unutilized

Directions: B800, B900, B911, B1040, B1041

Reasons: Secured Area

7 Bldgs.

Shaw AFB

Sumber SC 29152

Landholding Agency: Air Force

Property Number: 18200940016

Status: Unutilized

Directions: B1702, B1707, B1708, B1804, B1813, B1907, B5226

Reasons: Secured Area

Texas

4 Bldgs.

Dyess AFB

Dyess AFB TX

Landholding Agency: Air Force

Property Number: 18200940017

Status: Unutilized

Directions: FNWZ 5017, 5305, 6015, 6122

Reasons: Secured Area

Bldg. 09-145

Pantex Plant

Amarillo TX 79120

Landholding Agency: Energy

Property Number: 41200940006

Status: Unutilized

Reasons: Secured Area, Extensive deterioration, Within 2000 ft. of flammable or explosive material

West Virginia

Bldgs. 101, 110

Air National Guard

Martinsburg WV 25405

Landholding Agency: Air Force

Property Number: 18200940018

Status: Unutilized

Reasons: Within 2000 ft. of flammable or explosive material Secured Area

Unsuitable Properties

Land

Indiana

1.059 acres

Grissom AFB

Peru IN 46970

Landholding Agency: Air Force

Property Number: 18200940012

Status: Excess

Reasons: Within 2000 ft. of flammable or explosive material

Washington

Approx ¼ acre

Highway 25 N

Northport WA 99157

Landholding Agency: GSA

Property Number: 54200940008

Status: Excess

GSA Number: 9-Z-WA-1246

Reasons: Within 2000 ft. of flammable or explosive material

[FR Doc. E9-29850 Filed 12-17-09; 8:45 am]

BILLING CODE 4210-67-P